DEPARTMENT OF COMMERCE

Patent and Trademark Office

Invention Promoters/Promotion Firms Complaints

ACTION: Proposed collection; comment request.

SUMMARY: The United States Patent and Trademark Office (USPTO), as part of its continuing effort to reduce paperwork and respondent burden, invites the general public and other Federal agencies to take this opportunity to comment on the continuing information collection, as required by the Paperwork Reduction Act of 1995, Public Law 104-13 (44 U.S.C. 3506(c)(2)(A)).

DATES: Written comments must be submitted on or before August 14, 2006.

ADDRESSES: You may submit comments by any of the following methods:

E-mail: Susan.Brown@uspto.gov. Include “0651-0044 comment” in the subject line of the message.

Fax: 571-273-0112, marked to the attention of Susan Brown.

Mail: Susan K. Brown, Records Officer, Office of the Chief Information Officer, Architecture, Engineering and Technical Services, Data Architecture and Services Division, U.S. Patent and Trademark Office, P.O. Box 1450, Alexandria, VA 22313-1450.

Federal e-Rulemaking Portal: http://www.regulations.gov.

FOR FURTHER INFORMATION CONTACT: Requests for additional information should be directed to Cathie Kirik, Mail Stop 24, Commissioner for Patents, U.S. Patent and Trademark Office, P.O. Box 1450, Alexandria, VA 22313-1450; by telephone at 571-272-8800; or by e-mail at Cathie.Kirik@uspto.gov.

SUPPLEMENTARY INFORMATION

I. Abstract

Under the Inventors' Rights Act of 1999, as found in 35 U.S.C. 297 and implemented by 37 CFR part 4, the United States Patent and Trademark Office (USPTO) is required to provide a forum for the publication of complaints concerning invention promoters and responses from the invention promoters to these complaints. An individual may submit a complaint concerning an invention promoter to the USPTO, which will forward the complaint to the invention promoter for response. The complaints and responses will be published and made available to the public on the USPTO Web site. The USPTO does not investigate these complaints or participate in any legal proceedings against invention promoters or promotion firms.

Complaints submitted to the USPTO must identify the name and address of the complainant and the invention promoter or promotion firm, explain the basis for the complaint, and include the signature of the complainant. The identifying information is necessary so that the USPTO can forward the complaint to the invention promoter or promotion firm and also notify the complainant that the complaint has been forwarded. Complainants should understand that the complaints will be forwarded to the invention promoter for response and that the complaint and response will be made available to the public as required by the Inventors' Rights Act. If the USPTO does not receive a response from the invention promoter, the complaint will still be published without the response. The USPTO does not accept complaints under this program if the complainant requests confidentiality.

This information collection includes one form, Complaint Regarding Invention Promoter (PTO/SB/2048), which is used by the public to submit a complaint under this program. This form is available for download from the USPTO Web site. Use of this form is not mandatory as long as the complaint includes the necessary information and is clearly marked as a complaint filed under the Inventors' Rights Act. There is no associated form for submitting responses to the complaints.

II. Method of Collection

By mail, facsimile, or hand delivery to the USPTO.

III. Data

OMB Number: 0651-0044.

Form Number(s): PTO/SB/2048.

Type of Review: Revision of a currently approved collection.

Affected Public: Individuals or households; businesses or other for-profits; and not-for-profit institutions.

Estimated Number of Respondents: 100 responses per year.

Estimated Time Per Response: The USPTO estimates that it will take the public approximately 15 minutes (0.25 hours) to gather the necessary information, prepare the form, and submit the complaint to the USPTO and approximately 30 minutes (0.5 hours) for an invention promoter or promotion firm to prepare and submit a response to a complaint.

Estimated Total Annual Respondent Burden Hours: 38 hours per year.

Estimated Total Annual Respondent Cost Burden: $5,830 per year. The USPTO expects that complaints will be prepared by paraprofessionals or independent inventors. Using the average of the paraprofessional rate of $90 per hour and the estimated rate of $30 per hour for independent inventors, the USPTO estimates that the average rate for preparing the complaints will be approximately $60 per hour. The USPTO expects that the responses to the complaints will be prepared by attorneys or invention promoters. Using the average of the professional rate of $304 per hour for associate attorneys in private firms and the estimated rate of $100 per hour for invention promoters, the USPTO estimates that the average rate for preparing the responses to the complaints will be $202 per hour. Therefore, the respondent cost burden for this collection will be $5,830 per year.

Item | Estimated time for response (minutes) | Estimated annual responses | Estimated annual burden hours
Complaint Regarding Invention Promoter | 15 | 50 | 13
Responses to the Complaints | 30 | 50 | 25
Total |  | 100 | 38

Estimated Total Annual Non-hour Respondent Cost Burden: $740. There are no capital start-up or maintenance costs or filing fees associated with this information collection. However, the public may incur postage costs when submitting a complaint or a response to a complaint by mail to the USPTO. The USPTO estimates that the first-class postage cost for a mailed complaint will be 39 cents. Promotion firms may choose to send responses to complaints using overnight mail service at an estimated cost of $14.40 per response. Therefore, the total annual (non-hour) respondent cost burden for this collection in the form of postage costs is estimated to be $740 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: June 6, 2006.
Susan K. Brown,
Records Officer, USPTO, Office of the Chief Information Officer, Architecture, Engineering and Technical Services, Data Architecture and Services Division.

[FR Doc. E6-9173 Filed 6-12-06; 8:45 am]

BILLING CODE 3510-16-P